DEPARTMENT OF DEFENSE

Department of the Navy

Notice of Performance Review Board Membership

AGENCY: Department of the Navy, DoD.

ACTION: Notice.

SUMMARY: The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among the individuals listed below:

Mr. Mark Andress

Mr. Todd Balazs

Ms. Jennifer Balisle

VADM Terry Benedict

Ms. Juliette Beyler

RADM Bon Boxall

Mrs. Diane Boyle

Mr. William Bray

Ms. Anne Brennan

Mr. Steven Cade

Mr. Phillip Chudoba

Mr. Anthony Cifone

RDML Brian Corey

Dr. Bruce Danly

RADM Mark Darrah

Mr. Tom Dee

RDML Moises DelToro, III

Mr. Frank DiGiovanni

RDML James Downey

Mr. Victor Gavin

CAPT John Gearhart

Ms. Donjette Gilmore

Dr. Frank Herr

Mr. Neil Hogg

Mr. Robert Hogue

Mr. Mark Honecker

Mr. Steven Iselin

VADM David Johnson

Ms. Joan Johnson

Ms. Joan Johnson

Dr. Walter Jones

Ms. Jennifer LaTorre

Mr. Paul Lluy

Mr. Joe Ludovici

Mr. Michael Madden

Dr. Michael Malanoski

BGen Greg Masiello

Mr. Donald McCormack, Jr.

Ms. Ann-Cecile McDermott

Mr. James Meade

Mr. William Melton

RADM Michael Moran

CAPT Scott Moran

Mr. Garry Newton

RDML Dean Peters

Mr. Garrett Ressing

LtGen Michael Rocco

Dr. Stephen Russell

Mr. Steven Schulze

RDML Robert Sharp

Ms. Cindy Shaver

Mr. James Smerchansky

Ms. Allison Stiller

Mr. Patrick Sullivan

Ms. Leslie Taylor

Ms. Mary K. Tompa

Mr. Stephen Trautman

Ms. Gloria Valdez

Dr. David Walker

RDML Stephen Williamson

Mr. William Williford

Mr. Robert Woods

Mr. Samuel Worth

Ms. Lynn Wright

RDML Michael Zarkowski

FOR FURTHER INFORMATION CONTACT: Leslie Joseph, Director, Executive Management Program Office, Office of Civilian Human Resources at 202-685-6186.

SUPPLEMENTARY INFORMATION: The appointment of members to the DON's numerous Senior Executive Service (SES) Performance Review Boards (PRBs), is being made pursuant to 5 U.S.C. 4314(c)(4).

Dated: October 17, 2017.
A.M. Nichols,
Lieutenant Commander, Judge Advocate General's Corps, U.S. Navy, Federal Register Liaison Officer.

[FR Doc. 2017-23012 Filed 10-23-17; 8:45 am]

BILLING CODE 3810-FF-P